NATIONAL SCIENCE FOUNDATION

Advisory Committee for GPRA Performance Assessment (13853); Notice of Meeting

In accordance with the Federal Advisory Committee Act (Pub. L. 92-463, as amended) the National Science Foundation announces the following meeting.

Name: Advisory Committee for GPRA Performance Assessment (AC/GPA).

Date and Time: June 22, 2006, 8 a.m.-5 p.m. June 23, 2006, 8:30 a.m.-5 p.m.

Place: National Science Foundation, 4201 Wilson Boulevard, Arlington, VA 22230, Room 375. If you are attending the meeting and need access to the NSF building, please contact Joyce Grainger

(jgrainge@nsf.gov) for a visitor's badge.

Contact: Joyce Grainer, BFA/BD, National Science Foundation, Room 407, Arlington, Virginia. Telephone: 703-292-4481.

Type of Meeting: Open.

Purpose of Meeting: To provide advice and recommendations to the National Science Foundation (NSF) Director regarding the Foundation's performance as it relates to the Government Performance and Results Act of 1993 (GPRA).

Agenda: Topics include retrospective accomplishments of NSF awards as they relate to performance indicators associated with the National Science Foundation's Ideas, Tools, People and Organizational Excellence (I, T, P, OE) strategic outcome goals; the quality and relevance of NSF award portfolios; and issues involving future AC/GPA performance assessment activity.

Thursday, June 22, 2006

Welcome and Introductions; Charge to the Committee; Overview Presentations on NSF Performance Assessment, Merit Review, Committees of Visitors, Transformative Research, and the proposed Strategic Plan. The Committee, in subgroups, will review and discuss retrospective accomplishments under the Ideas, Tools, People, and Organizational Excellence strategic goals.

Friday, June 23, 2006

The Committee reconvenes as a Committee of the Whole to hear progress reports from the strategic goals' subgroups, discuss findings, recommendations, and the preparation of the final report. The Committee will discuss the proposed 2006-2011 Strategic Plan (Draft) with regard to potential impact on the AC/GPA performance assessment activity.

Dated: May 23, 2006.
Susanne Bolton,
Committee Management Officer.

[FR Doc. 06-4879 Filed 5-25-06; 8:45am]

BILLING CODE 7555-01-M